SOCIAL SECURITY ADMINISTRATION

Agency Information Collection Activities: Proposed Request

The Social Security Administration (SSA) publishes a list of information collection packages requiring clearance by the Office of Management and Budget (OMB) in compliance with Public Law 104-13, the Paperwork Reduction Act of 1995, effective October 1, 1995. This notice includes revisions of OMB-approved information collections.

SSA is soliciting comments on the accuracy of the agency's burden estimate; the need for the information; its practical utility; ways to enhance its quality, utility, and clarity; and ways to minimize burden on respondents, including the use of automated collection techniques or other forms of information technology. Mail, email, or fax your comments and recommendations on the information collection(s) to the OMB Desk Officer and SSA Reports Clearance Officer at the following addresses or fax numbers.

(OMB) Office of Management and Budget, Attn: Desk Officer for SSA, Fax: 202-395-6974, Email address: OIRA_Submission@omb.eop.gov.

(SSA) Social Security Administration, DCRDP, Attn: Reports Clearance Director, 107 Altmeyer Building, 6401 Security Blvd., Baltimore, MD 21235, Fax: 410-966-2830, Email address: OPLM.RCO@ssa.gov.

The information collections below are pending at SSA. SSA will submit the information collections to OMB within 60 days from the date of this notice. To be sure we consider your comments, we must receive them no later than September 7, 2012. Individuals can obtain copies of the collection instruments by writing to the above email address.

1. Requests for Self-Employment Information, Employee Information, Employer Information—20 CFR 422.120—0960-0508. When SSA cannot identify Form W-2 wage data for an individual, we place the data in an earnings suspense file and contact the individuals (and in certain instances the employer) to obtain the correct information. If the respondent furnishes the name and SSN information that agrees with SSA's records, or provides information that resolves the discrepancy, SSA adds the reported earnings to the respondent's Social Security record. We use Forms SSA-L2765, SSA-L3365, and SSA-L4002 for this purpose. The respondents are self-employed individuals and employees whose name and SSN information do not agree with their employer's and SSA's records.

Type of Request: Revision of an OMB approved information collection.

Collection method | Number of respondents | Frequency of response | Average burden per response (minutes) | Estimated total annual burden (hours)
SSA-L2765 | 12,321 | 1 | 10 | 2,054
SSA-L3365 | 179,749 | 1 | 10 | 29,958
SSA-L4002 | 121,679 | 1 | 10 | 20,280
Totals | 313,749 |  |  | 52,292

2. Function Report Adult—Third Party—20 CFR 404.1512 & 416.912—0960-0635. Individuals receiving or applying for Social Security Disability Insurance (SSDI) or Supplemental Security Income (SSI) provide SSA with medical evidence and other proof SSA requires to prove their disability. SSA, and Disability Determination Services (DDS) on our behalf, collect this information using Form SSA-3380-BK. We use the information to document how claimants' disabilities affect their ability to function, and to determine eligibility for SSI and SSDI claims. The respondents are third parties familiar with the functional limitations (or lack thereof) of claimants who apply for SSI and SSDI benefits.

Type of Request: Revision of an OMB approved information collection.

Collection method | Number of respondents | Frequency of response | Average burden per response (minutes) | Estimated total annual burden (hours)
SSA-338-BK (Individuals) | 500,000 | 1 | 61 | 508,333
SSA-338-BK (Private Sector) | 500,000 | 1 | 61 | 508,333
Totals | 1,000,000 |  |  | 1,016,666

3. Function Report Adult—20 CFR 404.1512 & 416.912—0960-0681. Individuals receiving or applying for SSDI or SSI must provide medical evidence and other proof SSA requires to prove their disability. SSA, and DDSs on our behalf, collect the information using Form SSA-3373. We use this information to document how claimants' disabilities affect their ability to function, and to determine eligibility for SSI and SSDI claims. The respondents are title II and title XVI applicants (or current recipients undergoing redeterminations) for disability payments.

Type of Request: Revision of an OMB-approved information collection.

Collection instrument | Number of respondents | Frequency of response | Average burden per response (minutes) | Estimated total annual burden (hours)
SSA-3373 | 4,221,656 | 1 | 61 | 4,292,016

Dated: July 3, 2012.
Faye Lipsky,
Reports Clearance Director, Office of Regulations and Reports Clearance, Social Security Administration.

[FR Doc. 2012-16635 Filed 7-6-12; 8:45 am]

BILLING CODE 4191-02-P